Proclamation 8629 of February 28, 2011

Irish-American Heritage Month, 2011

By the President of the United States of America

A Proclamation

Our diverse Nation has been shaped by the sacrifices and successes of those who crossed both land and sea in pursuit of a common dream. For millions of Americans, this journey began in Ireland. In the wake of the Great Hunger, many sons and daughters of Erin came to our shores seeking a brighter day, with only courage and the enduring values of faith and family to sustain them. Alongside many others who sought a better life in a new Nation, these intrepid immigrants built strong communities and helped forge our country’s future. During Irish-American Heritage Month, we honor the contributions Irish Americans have made, and celebrate the nearly 40 million among us who proudly trace their roots back to Ireland.

From the earliest days of our Republic, the Irish have overcome discrimination and carved out a place for themselves in the American story. Through hard work, perseverance, and patriotism, women and men of Irish descent have given their brawn, brains, and blood to make and remake this Nation—pulling it westward, pushing it skyward, and moving it forward. Half a century ago, John F. Kennedy became our first Irish-American Catholic President and summoned an expectant citizenry to greatness. This year, as we commemorate the 50th anniversary of President Kennedy’s inauguration, we recognize our 35th President and the countless other Irish Americans whose leadership and service have steered the course of our Nation.

Seldom in this world has a country so small had so large an impact on another. Today, the rich culture of Ireland touches all aspects of American society, and the friendship that binds Ireland and the United States is marked by a shared past and a common future. As communities across our country celebrate Irish-American Heritage Month and St. Patrick’s Day, our Nation pays tribute to the proud lineage passed down to so many Americans from the Emerald Isle.

NOW, THEREFORE, I, BARACK OBAMA, President of the United States of America, by virtue of the authority vested in me by the Constitution and the laws of the United States, do hereby proclaim March 2011 as Irish-American Heritage Month. I call upon all Americans to observe this month by celebrating the contributions of Irish Americans to our Nation.

IN WITNESS WHEREOF, I have hereunto set my hand this twenty-eighth day of February, in the year of our Lord two thousand eleven, and of the Independence of the United States of America the two hundred and thirty-fifth.

[FR Doc. 2011-5029

Filed 3-2-11; 11:15 am]

Billing code 3195-W1-P